DEPARTMENT OF TRANSPORTATION

Federal Aviation Administration

14 CFR Part 39

[Docket No. 2000-SW-33-AD; Amendment 39-11881; AD 2000-17-07]

RIN 2120-AA64

Airworthiness Directives; Eurocopter France Model EC120B Helicopters

AGENCY: Federal Aviation Administration, DOT.

ACTION: Final rule; request for comments.

SUMMARY: This amendment adopts a new airworthiness directive (AD) for Eurocopter France Model EC120B helicopters. This action requires adjusting the clearance of the cabin sliding door if necessary. This amendment is prompted by an in-flight loss of a cabin sliding door, which had been locked in the fully opened position. The actions specified in this AD are intended to prevent in-flight loss of a cabin sliding door, impact with the horizontal stabilizer, main rotor, or fenestron tail rotor, and subsequent loss of control of the helicopter.

DATES: Effective September 12, 2000.

Comments for inclusion in the Rules Docket must be received on or before October 27, 2000.

ADDRESSES: Submit comments in triplicate to the Federal Aviation Administration (FAA), Office of the Regional Counsel, Southwest Region, Attention: Rules Docket No. 2000-SW-33-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: The Direction Generale De L'Aviation Civile (DGAC), the airworthiness authority for France, notified the FAA that an unsafe condition may exist on Eurocopter France Model EC120B helicopters. The DGAC advises that the cabin sliding door must be adjusted, if necessary, to prevent in-flight loss of the cabin sliding door.

Eurocopter France has issued Service Telex No. 05-005, dated June 30, 2000, which specifies adjusting any cabin sliding door if a roller is not completely inside its rail with a minimum clearance of 3 mm. Eurocopter France received a report of an in-flight loss of the cabin sliding door. An investigation shows that the loss of the door was due to the forward upper roller being out of its guide rail. The door edge thus exposed to the slipstream caused the forward lower roller train to be driven out of the guide rail due to the aerodynamic loads. The door aft hinges failed, and the door departed from the aircraft. The DGAC classified this service telex as mandatory and issued AD T2000-285-005(A), dated June 30, 2000, to ensure the continued airworthiness of these helicopters in France.

This helicopter model is manufactured in France and is type certificated for operation in the United States under the provisions of 14 CFR 21.29 and the applicable bilateral airworthiness agreement. Pursuant to this bilateral airworthiness agreement, the DGAC has kept the FAA informed of the situation described above. The FAA has examined the findings of the DGAC, reviewed all available information, and determined that AD action is necessary for products of this type design that are certificated for operation in the United States.

We have identified an unsafe condition that is likely to exist or develop on other Eurocopter France Model EC120B helicopters of the same type design registered in the United States. This AD is being issued to prevent in-flight loss of a cabin sliding door, impact with the horizontal stabilizer, main rotor, or fenestron tail rotor, and subsequent loss of control of the helicopter. This AD requires adjusting the clearance of any cabin sliding door to a minimum of 3 mm from the aft end of the rail. The short compliance time involved is required because the previously described critical unsafe condition can adversely affect the structural integrity and controllability of the helicopter. Therefore, adjusting the clearance of the cabin sliding door to a minimum of 3 mm from the aft end of the rail is required before further flight with the door in the open position and this AD must be issued immediately.

Since a situation exists that requires the immediate adoption of this regulation, it is found that notice and opportunity for prior public comment hereon are impracticable, and that good cause exists for making this amendment effective in less than 30 days.

The FAA estimates that 24 helicopters will be affected by this AD, that it will take approximately 0.25 work hours to adjust the cabin sliding door, and that the average labor rate is $60 per work hour. Based on these figures, the total cost impact of the AD on U.S. operators is estimated to be $360.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-33-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-17-07 Eurocopter France: Amendment 39-11881. Docket No. 2000-SW-33-AD.

Applicability: Model EC120B helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before further flight with the cabin sliding door in the open position or within 60 days, whichever occurs first, unless accomplished previously, and prior to further flight after installing a cabin sliding door.

To prevent in-flight loss of a cabin sliding door, impact with the horizontal stabilizer, main rotor, or fenestron tail rotor, and subsequent loss of control of the helicopter, accomplish the following:

(a) Adjust the cabin sliding door (23) (see Figure 1) in accordance with the following:

BILLING CODE 4910-13-P

BILLING CODE 4910-13-C

(1) Loosen the screws (19) and the stop (15).

(2) Open and push the cabin sliding door aft until the roller goes past the locking pin (13) while keeping the roller (21) inside the rail (12).

(3) Move the cabin sliding door forward to bring the roller (21) into contact with the locking pin (13).

(4) Move the stop (15) as far forward as possible toward the nose of the aircraft.

(5) Mark the location of the stop (15) with respect to the rail (14).

(6) Unlock the cabin sliding door and move it forward to gain access to the screws (19).

(7) Hold the stop (15) aligned with the rail (14), and secure the stop (15) and the screws (19) at the location previously marked.

(8) Ensure that the pin (13) locking mechanism (pin) locks the cabin sliding door in the open position. If the pin does not lock the door in the open position, before further flight, repair or replace the pin with an airworthy pin.

(9) Bring the roller (22) into contact with the stop (15) of the rail (14).

(10) If the roller (21) is completely inside the rail (12) with a minimum clearance of 3 mm from the aft end of the rail (12), the cabin door is properly adjusted and no further action is required by this AD.

(11) If the roller (21) is less than 3 mm from the aft end of the rail (12), before further flight, repeat steps (1) through (10) until a minimum clearance of 3 mm is obtained.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter with the sliding cabin door closed or removed to a location where the requirements of this AD can be accomplished.

(d) This amendment becomes effective on September 12, 2000.

Note 3: The subject of this AD is addressed in Direction Generale De L'Aviation Civile (France) AD T2000-285-005(A), dated June 30, 2000.

Issued in Fort Worth, Texas, on August 21, 2000.
Eric Bries,
Acting Manager, Rotorcraft Directorate, Aircraft Certification Service.

[FR Doc. 00-21870 Filed 8-25-00; 8:45 am]

BILLING CODE 4910-13-P